ENVIRONMENTAL PROTECTION AGENCY

[ER-FRL-6671-4]

Environmental Impact Statements; Notice of Availability

Responsible Agency: Office of Federal Activities, General Information (202) 564-7167 or http://www.epa.gov/compliance/nepa/.

Weekly receipt of Environmental Impact Statements

Filed 1/9/2006 through 1/13/2006

Pursuant to 40 CFR 1506.9.

EIS No. 20060006, Final EIS, AFS, AK, Scott Peak Project Area, Harvesting Timber and Development of Road Management, Tongrass National Forest, Petersburg Ranger District, Northeast of Kupreanof Island, AK, Wait Period Ends: 2/13/2006, Contact: Linda Slaght 907-772-3871.

Revision to FR Notice published on 1/6/2006: The above EIS should have appeared in the FR on 1/6/2006. The Wait Period is calculated from the FR on 1/6/2006.

EIS No. 20060007, Draft Supplement, COE, MA, Boston Harbor Inner Harbor Maintenance Dredging Project, Updated Information, Boston Harbor, Mystic River and Chelsea River, MA, Comment Period Ends: 3/6/2006, Contact: Michael Keegan, 978-318-8087.

EIS No. 20060008, Draft EIS, FHW, LA, East-West Corridor Highway Component, from I-130 to Louis Armstrong International Airport, to Central Business District (CBD), Jefferson, Orleans and St. Charles Parishes, LA, Comment Period Ends: 3/6/2006, Contact: William Farr, 225-757-7615.

EIS No. 20060009, Final EIS, NPS, AK, Denali National Park and Preserve Revised Final Backcountry Management Plan, General Management Plan Amendment, Implementation, AK, Wait Period Ends: 2/21/2006, Contact: Adrienne Lindholm, 907-644-3613.

EIS No. 20060010, Draft EIS, IBR, NM, Long-Term Miscellaneous Purposes Contract Abstract, To Use Carlsbad Project Water for Purposes Other than Irrigation, Eddy County, NM, Comment Period Ends: 3/13/2006, Contact: Marsha Carra, 505-462-3602.

EIS No. 20060011, Draft EIS, BLM, UT, Chapita Wells-Stagecoach Area Natural Gas Development, Drilling and Production Operations of Natural Gas Wells and Associated Access Road, and Pipelines, Uintah County, UT, Comment Period Ends: 3/6/2006, Contact: Stephanie Howard, 435-781-4400.

EIS No. 20060012, Final Supplement, COE, CA, U.S. Army National Training Center, Additional Maneuver Training Land at Fort Irwin, Implementation, San Bernardino County, CA, Wait Period Ends: 2/21/2006, Contact: Ray Marler, 760-380-3035.

EIS No. 20060013, Final EIS, COE, 00, TIERED-FEIS Baltimore Harbor and Channels Dredged Material Management Plan (DMMP), To Analyze Dredged Material Placement, Port of Baltimore, Chesapeake Bay, MD, PA, DE, WV, DC, and NY, Wait Period Ends: 2/21/2006, Contact: Mark Mendelsohn, 401-962-9499.

EIS No. 20060014, Draft EIS, NPS, OH, Dayton Aviation Heritage National Historical Park, General Management Plan Amendment, Implementation, Dayton, OH, Comment Period Ends: 3/20/2006, Contact: Lawrence Blake, 937-225-7710.

EIS No. 20060015, Draft EIS, AFS, CA, Kirkwood Mountain Resort, Proposed 2003 Mountain Master Development Plan, Implementation, Eldorado National Forest, Amador, Alpine and EL Dorado Counties, CA, Comment Period Ends: 3/6/2006, Contact: Sue Rodman, 530-622-5061.

EIS No. 20060016, Fourth Draft Supplement, NOA, 00, Amendment 26 to the Gulf of Mexico Reef Fish Fishery Management Plan, Proposed Individual Fishing Quota (IFQ) Program to Reduce Overcapacity in the Commercial Red Snapper Fishery, Comment Period Ends: 3/6/2006, Contact: Dr. Roy E. Crabtree, 727-824-5308.

EIS No. 20060017, Draft EIS, AFS, FL, Ocala National Forest Access Designation Process, Roads and Trails Systems Development, Implementation, Lake, Marion and Putnam Counties, FL, Comment Period Ends: 2/21/2006, Contact: Will Ebaugh, 850-523-8557.

EIS No. 20060018, Final EIS, COE, TX, Upper Trinity River Basin Project, To Provide Flood Damage Reduction, Ecosystem Improvement, Recreation and Urban Revitalization, Trinity River, Central City, Fort Worth, Tarrant County, TX, Wait Period Ends: 2/21/2006, Contact: Dr. Rebecca Griffith, 817-886-1820.

Amended Notices

EIS No. 20050459, Draft EIS, BLM, 00, PROGRAMMATIC—Vegetation Treatments Using Herbicides on Bureau of Land Management Public Lands in 17 Westerns, including Alaska, Comment Period Ends: 2/10/2006, Contact: Brian Amme, 775-861-6645.

Revision of FR Notice Published 11/10/2005: Comment Period Ending 1/9/2006 has been Extended to 2/10/2006.

EIS No. 20060004, Final EIS, FHW, MD, Intercounty Connector (ICC) from I-270 to US1, Funding and US Army COE Section 404 Permit, Montgomery and Prince George's Counties, MD, Wait Period Ends: 2/27/2006, Contact: Dan Johnson, 410-779-7154.

Revision of FR Notice Published 1/13/2006: Correction to Wait Period Ending 2/13/2006 has been extended to 2/27/2006.

Dated: January 17, 2006.
Dawn Roberts,
Management Analyst, Office of Federal Activities.

[FR Doc. 06-539 Filed 1-19-06; 8:45 am]

BILLING CODE 6560-50-M